DEPARTMENT OF ENERGY

Federal Energy Regulatory Commission

Combined Notice of Filings #1

Take notice that the Commission received the following electric rate filings:

Docket Numbers: ER12-637-005; ER11-2370-005; ER10-2211-005.

Applicants: Calhoun Power Company, LLC, Cambria CoGen Company, Vandolah Power Company L.L.C.

Description: Non-Material Change in Status Filing of Calhoun Power Company, LLC, et al.

Filed Date: 6/10/16.

Accession Number: 20160610-5313.

Comments Due: 5 p.m. ET 7/1/16.

Docket Numbers: ER16-228-002.

Applicants: Southwest Power Pool, Inc.

Description: Compliance filing: 3113 Basin & MDU Attachment AO Amended Compliance Filing to be effective 10/1/2015.

Filed Date: 6/13/16.

Accession Number: 20160613-5033.

Comments Due: 5 p.m. ET 7/5/16.

Docket Numbers: ER16-1689-001.

Applicants: ArcelorMittal Cleveland LLC.

Description: Tariff Amendment: Supplement to Petition for Acceptance of Market-Base Rate Tariff to be effective 6/30/2016.

Filed Date: 6/13/16.

Accession Number: 20160613-5154.

Comments Due: 5 p.m. ET 7/5/16.

Docket Numbers: ER16-1912-000.

Applicants: Southwest Power Pool, Inc.

Description: § 205(d) Rate Filing: Out-of-Merit Energy Clarification to be effective 7/1/2016.

Filed Date: 6/10/16.

Accession Number: 20160610-5274.

Comments Due: 5 p.m. ET 7/1/16.

Docket Numbers: ER16-1913-000.

Applicants: River Bend Solar, LLC.

Description: Baseline eTariff Filing: River Bend Solar, LLC Application for Market-Based Rates to be effective 9/1/2016.

Filed Date: 6/10/16.

Accession Number: 20160610-5281.

Comments Due: 5 p.m. ET 7/1/16.

Docket Numbers: ER16-1914-000.

Applicants: Patua Project LLC.

Description: § 205(d) Rate Filing: Notice of Succession to be effective 5/11/2016.

Filed Date: 6/10/16.

Accession Number: 20160610-5283.

Comments Due: 5 p.m. ET 7/1/16.

Docket Numbers: ER16-1915-000.

Applicants: Oildale Energy LLC.

Description: Tariff Cancellation: Notice of Cancellation to be effective 6/11/2016.

Filed Date: 6/10/16.

Accession Number: 20160610-5284.

Comments Due: 5 p.m. ET 7/1/16.

Docket Numbers: ER16-1916-000.

Applicants: Public Service Company of Colorado.

Description: § 205(d) Rate Filing: 2016-6-13 Wind Integration Correction Filing to be effective 1/1/2015.

Filed Date: 6/13/16.

Accession Number: 20160613-5108.

Comments Due: 5 p.m. ET 7/5/16.

Docket Numbers: ER16-1917-000.

Applicants: Public Service Company of Colorado.

Description: § 205(d) Rate Filing: PSCo Wind Integration Correction to be effective 4/16/2016.

Filed Date: 6/13/16.

Accession Number: 20160613-5109.

Comments Due: 5 p.m. ET 7/5/16.

Docket Numbers: ER16-1918-000.

Applicants: Public Service Company of Colorado.

Description: § 205(d) Rate Filing: 20160613 Production Compliance (Wind Integration) to be effective 4/16/2016.

Filed Date: 6/13/16.

Accession Number: 20160613-5205.

Comments Due: 5 p.m. ET 7/5/16.

Docket Numbers: ER16-1919-000.

Applicants: Public Service Company of Colorado.

Description: § 205(d) Rate Filing: 20160613 Production Compliance (Wind Integration) to be effective 1/1/2015.

Filed Date: 6/13/16.

Accession Number: 20160613-5207.

Comments Due: 5 p.m. ET 7/5/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 13, 2016.
Nathaniel J. Davis, Sr.,
Deputy Secretary.

[FR Doc. 2016-14340 Filed 6-16-16; 8:45 am]

BILLING CODE 6717-01-P